OVERSEAS PRIVATE INVESTMENT CORPORATION

Submission for OMB Review

AGENCY: Overseas Private Investment Corporation (OPIC).

ACTION: Request for approval.

SUMMARY: Under the provisions of the Paperwork Reduction Act (44 U.S.C. Chapter 35), agencies are required to publish a Notice in the Federal Register notifying the public that the agency has prepared an information collection for OMB review and approval.

DATES: This 60 day notice is to inform the public, that this collection is being submitted to OMB for approval.

ADDRESSES: Copies of the subject form may be obtained from the Agency submitting officer.

FOR FURTHER INFORMATION CONTACT: OPIC Agency Submitting Officer: Essie Bryant, Record Manager, Overseas Private Investment Corporation, 1100 New York Avenue NW., Washington, DC 20527; (202) 336-8563.

Summary Form Under Review

Type of Request: New form.

Title: Personal Financial Statement.

Form Number: OPIC-254.

Frequency of Use: Up front—one per individual investor/guarantor per project.

Type of Respondents: Individuals.

Standard Industrial Classification Codes: N/A.

Description of Affected Public: U.S. and foreign citizens investing in projects overseas.

Reporting Hours: 75 hours (1 hour per response).

Number of Responses: 75 per year.

Federal Cost: $3,819.

Authority for Information Collection: Sections 231, 234(a), 239(d), and 240A of the Foreign Assistance Act of 1961, as amended.

Abstract (Needs and Uses): The personal financial statement is supporting documentation to the OPIC application for financing (OPIC-115). The information provided is used by OPIC to determine if individuals who are providing equity investment in or credit support to a project have sufficient financial wherewithal to meet their expected obligations under the proposed terms of the OPIC financing.

Dated: August 22, 2014.
Nichole Cadiente,
Administrative Counsel, Administrative Affairs, Department of Legal Affairs.

[FR Doc. 2014-20442 Filed 8-27-14; 8:45 am]

BILLING CODE M